NATIONAL FOUNDATION FOR THE ARTS AND THE HUMANITIES

Institute of Museum and Library Services

Notice of Proposed Information Collection Requests: 2017 Sustaining Indigenous Culture Survey: The Structure, Activities, and Needs of Tribal Archives, Libraries, and Museums Needs Assessment Survey

AGENCY: Institute of Museum and Library Services, National Foundation for the Arts and the Humanities.

ACTION: Notice, request for comments, collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. By this notice, IMLS is soliciting comments concerning a proposed survey to collect information to assess and report on the current activities and needs of USA-based indigenous cultural institutions of tribal archives, libraries, and museums.

A copy of the proposed information collection request can be obtained by contacting the individual listed below in the ADDRESSES section of this notice.

DATES: Written comments must be submitted to the office listed in the addressee section below on or before September 4, 2017.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Dr. Sandra Webb, Senior Advisor, Office of the Director, Institute of Museum and Library Services, 955 L'Enfant Plaza North SW., Suite 4000, Washington, DC 20024-2135. Dr. Webb can be reached by Telephone: 202-653-4718, Fax: 202-653-4608, or by email at swebb@imls.gov, or by teletype (TTY/TDD) for persons with hearing difficulty at 202-653-4614.

SUPPLEMENTARY INFORMATION:

I. Background

The Institute of Museum and Library Services is the primary source of federal support for the Nation's 123,000 libraries and 35,000 museums. The Institute's mission is to inspire libraries and museums to advance innovation, learning and civic engagement. The Institute works at the national level and in coordination with state and local organizations to sustain heritage, culture, and knowledge; enhance learning and innovation; and support professional development. IMLS is responsible for identifying national needs for and trends in museum, library, and information services; measuring and reporting on the impact and effectiveness of museum, library and information services throughout the United States, including programs conducted with funds made available by IMLS; identifying, and disseminating information on, the best practices of such programs; and developing plans to improve museum, library and information services of the United States and strengthen national, State, local, regional, and international communications and cooperative networks (20 U.S.C. Chapter 72, 20 U.S.C. 9108).

II. Current Actions

The purpose of this survey is to gather information related to current activities, challenges, and unmet needs of tribal archives, libraries, and museums. The project is managed by the Association of Tribal Archives, Libraries, and Museums (ATALM), a tribally-led non-profit organization which provides professional development activities, tools, and training.

Data will be collected through an online survey.

Information gathered will provide insight for tribal governments, cultural institutions, and the public. A full report of the findings, as well as recommended actions, will be published by ATALM.

Agency: Institute of Museum and Library Services.

Title: 2017 Sustaining Indigenous Culture Survey: The Structure, Activities, and Needs of Tribal Archives, Libraries, and Museums.

OMB Number: To be determined.

Frequency: One-time collection anticipated.

Affected Public: The target population is tribal archive, library, and museum centers, as well as leaders of tribal communities without cultural programs.

Number of Respondents: To be determined.

Estimated Average Burden per Response: To be determined.

Estimated Total Annual Burden: To be determined.

Total Annualized Capital/Startup Costs: n/a.

Total Annual Costs: To be determined.

Public Comments Invited: Comments submitted in response to this notice will be summarized and/or included in the request for OMB's clearance of this information collection.

FOR FURTHER INFORMATION CONTACT: Dr. Sandra Toro, Senior Program Officer, Institute of Museum and Library Services, 955 L'Enfant Plaza SW., Suite 4000, Washington, DC 20024. Dr. Toro can be reached by Telephone: 202-653-4662, Fax: 202-653-4608, or by email at storo@imls.gov, or by teletype (TTY/TDD) for persons with hearing difficulty at 202/653-4614. Office hours are from 8:00 a.m. to 4:30 p.m., E.T., Monday through Friday, except Federal holidays.

Dated: July 3, 2017.
Kim Miller,
Grants Management Specialist, Office of Chief Information Officer.

[FR Doc. 2017-14302 Filed 7-6-17; 8:45 am]

BILLING CODE 7036-01-P